DEPARTMENT OF COMMERCE

Bureau of Industry and Security

15 CFR Parts 730, 732, 742, 746, and 774

[Docket No. 070313058-7059-01]

RIN 0694-AE00

Revisions and Technical Correction to the Export Administration Regulations

AGENCY: Bureau of Industry and Security, Commerce.

ACTION: Final rule; correction.

SUMMARY: This rule amends the Export Administration Regulations (EAR) by making a technical correction to the contact information for the Drug Enforcement Administration. In addition, this rule amends the EAR by making corrections inadvertently omitted in three rules previously published in the Federal Register: the August 31, 2006, final rule implementing the rescission of Libya's designation as a state sponsor of terrorism; the November 20, 2006, final rule imposing foreign policy controls on surreptitious communications intercepting devices; and the January 26, 2007, final rule imposing restrictions on exports and reexports of luxury goods to the Democratic People's Republic of Korea (North Korea).

DATES: This rule is effective April 24, 2007.

ADDRESSES: Although this is a final rule, comments are welcome and should be sent to publiccomments@bis.doc.gov, fax (202) 482-3355, or to Regulatory Policy Division, Bureau of Industry and Security, Room H2705, U.S. Department of Commerce, Washington, DC 20230. Please refer to regulatory identification number (RIN) 0694-AE00 in all comments, and in the subject line of e-mail comments. Comments on the collection of information should be sent to David Rostker, Office of Management and Budget (OMB), by e-mail to David_Rostker@omb.eop.gov, or by fax to (202) 395-7285.

FOR FURTHER INFORMATION CONTACT: Steven Emme, Regulatory Policy Division, Bureau of Industry and Security, Telephone: (202) 482-2440.

SUPPLEMENTARY INFORMATION: This rule makes corrections to the Export Administration Regulations (EAR) as described below.

Drug Enforcement Administration Contact Information

Previously, the International Chemical Control Unit and the International Drug Unit of the Drug Enforcement Administration (DEA) oversaw the import and export of listed chemicals used in the production of controlled substances. However, those units of the DEA have merged to form the Office of Diversion Control, Import-Export Unit. As such, the contact information for the DEA is updated in Supplement No. 3 to part 730. This rule removes the contact information for the International Chemical Control Unit and the International Drug Unit of the DEA and replaces them with the contact information for the “Drug Enforcement Administration, Office of Diversion Control, Import-Export Unit”. Moreover, the telephone number, fax number, and the URL for the homepage of said office of the DEA are included by inserting “Tel. (202) 307-4916, Fax: (202) 307-4702, Internet: http://www.deadiversion.usdoj.gov/imp_exp/index.html” for “Chemicals” and “Tel. (202) 307-7182 or (202) 307-7181, Fax: (202) 307-7503, Internet: http://www.deadiversion.usdoj.gov/imp_exp/index.html.” for “Controlled Substances”.

Rescission of Libya's Status as a State Terrorism Sponsor

The August 31, 2006, final rule (71 FR 51714) implemented the rescission of Libya's designation as a state sponsor of terrorism. To reflect that change, this rule removes remaining associations between Libya and the group of terrorist supporting countries that were inadvertently not removed in the August 31, 2006, final rule. In Supplement No. 2 to Part 742, “Libya” is removed from the title of “Anti-Terrorism Controls: Iran, Libya, North Korea, Syria and Sudan Contract Sanctity Dates and Related Policies”. Moreover, “Libya” is removed from the introductory text to paragraph (27) of Supplement No. 2 to Part 742, which previously stated: “For Iran, Syria, Sudan, North Korea, or Libya a license is required for all such equipment described in ECCNs 3B001 and 3B991.”.

Surreptitious Listening Devices

In regard to the November 20, 2006, final rule (71 FR 67034) imposing foreign policy controls on surreptitious communications intercepting devices, this rule corrects the heading to the Export Control Classification Number (ECCN) 5A980 for surreptitious listening devices. The heading of ECCN 5A980, which previously read as “Communications intercepting devices; and parts and accessories therefor.”, is removed and replaced with “Devices primarily useful for the surreptitious interception of wire, oral, or electronic communications; and parts and accessories therefor.”.

Restriction of Luxury Goods to North Korea

This rule corrects punctuation, wording, and a mislabeled citation, as well as specific ECCNs, with respect to the January 26, 2007, final rule (72 FR 3722) imposing restrictions on exports and reexports of luxury goods to North Korea. First, in § 732.3, the phrase “Cuba, Iran, Iraq, North Korea, and Rwanda” is amended in the first sentence of the introductory text of paragraph (i) to change the “and” to an “or”. Also, the introductory text to section 746.4(a) is corrected by adding a parenthesis to the end of the sentence. Moreover, the introductory text to Supplement No. 1 to part 746 is rephrased to clarify the wording and correct the citation. Thus, it reads “The following further amplifies the illustrative list of goods set forth in § 746.4(b)(1):” rather than “The following further amplifies the illustrative of list luxury goods set forth in § 746.4(c):”.

Additionally, the January 26, 2007, final rule on North Korea further omitted necessary changes to exports or reexports of machetes under ECCN 0A988 and to certain microprocessors in ECCN 3A991. This rule corrects ECCN 0A988 by including North Korea in the license requirement for machetes. As such, the third sentence under “Control(s)”, which distinguishes machete controls from conventional military steel helmet controls is deleted, and the second sentence is revised to read: “A license is required for conventional military steel helmets as described by 0A018.d.1 and for machetes to Iraq, North Korea, and Rwanda.”.

For ECCN 3A991, the first of two License Requirements Notes provided for a No License Required designation for certain microprocessors with a “Composite Theoretical Performance * * * below 550 MTOPS” that are exported or reexported to North Korea. This rule corrects that oversight by removing the first License Requirements Note.

Although the Export Administration Act expired on August 20, 2001, the President, through Executive Order 13222 of August 17, 2001, 3 CFR, 2001 Comp., p. 783 (2002), as extended by the Notice of August 3, 2006, 71 FR 44551 (August 7, 2006), has continued the Export Administration Regulations in effect under the International Emergency Economic Powers Act.

Rulemaking Requirements

1. This final rule has been determined to be not significant for purposes of E.O. 12866.

2. Notwithstanding any other provision of law, no person is required to respond to, nor shall any person be subject to a penalty for failure to comply with, a collection of information subject to the requirements of the Paperwork Reduction Act of 1995 (44 U.S.C. 3501 et seq.) (PRA), unless that collection of information displays a currently valid Office of Management and Budget (OMB) Control Number. This rule involves a collection of information subject to the requirements of the PRA. This collection has previously been approved by OMB under control number 0694-0088 (Multi-Purpose Application), which carries a burden hour estimate of 58 minutes to prepare and submit form BIS-748. This rule is not expected to result in any change for collection purposes.

3. This rule does not contain policies with Federalism implications as that term is defined under E.O. 13132.

4. The provisions of the Administrative Procedure Act (5 U.S.C. 553) requiring notice of proposed rulemaking, the opportunity for public participation, and a delay in effective date, are inapplicable because this regulation involves a military and foreign affairs function of the United States (5 U.S.C. 553(a)(1)). Further, no other law requires that a notice of proposed rulemaking and an opportunity for public comment be given for this final rule. Because a notice of proposed rulemaking and an opportunity for public comment are not required to be given for this rule under the Administrative Procedure Act or by any other law, the analytical requirements of the Regulatory Flexibility Act (5 U.S.C. 601 et seq.) are not applicable. Therefore, this regulation is issued in final form. Although there is no formal comment period, public comments on this regulation are welcome on a continuing basis. Comments should be submitted to Steven Emme, Regulatory Policy Division, Bureau of Industry and Security, Department of Commerce, P.O. Box 273, Washington, DC 20044.

List of Subjects

15 CFR Part 730

Administrative practice and procedure, Advisory committees, Exports, Reporting and recordkeeping requirements, Strategic and critical materials.

15 CFR Part 732

Administrative practice and procedure, Exports, Reporting and recordkeeping requirements.

15 CFR Part 742

Exports, Terrorism.

15 CFR Parts 746 and 774

Exports, Reporting and recordkeeping requirements.

Accordingly, parts 730, 732, 742, 746, and 774 of the Export Administration Regulations (15 CFR parts 730-799) are corrected by making the following correcting amendments:

PART 730—[AMENDED]

1. The authority citation for 15 CFR part 730 is revised to read as follows:

Authority: 50 U.S.C. app. 2401 et seq.; 50 U.S.C. 1701 et seq.; 10 U.S.C. 7420; 10 U.S.C. 7430(e); 22 U.S.C. 287c; 22 U.S.C. 2151 note, Pub. L. 108-175; 22 U.S.C. 3201 et seq.; 22 U.S.C. 6004; 30 U.S.C. 185(s), 185(u); 42 U.S.C. 2139a; 42 U.S.C. 6212; 43 U.S.C. 1354; 46 U.S.C. app. 466c; 50 U.S.C. app. 5; Sec. 901-911, Pub. L. 106-387; Sec. 221, Pub. L. 107-56; E.O. 11912, 41 FR 15825, 3 CFR, 1976 Comp., p. 114; E.O. 12002, 42 FR 35623, 3 CFR, 1977 Comp., p.133; E.O. 12058, 43 FR 20947, 3 CFR, 1978 Comp., p. 179; E.O. 12214, 45 FR 29783, 3 CFR, 1980 Comp., p. 256; E.O. 12851, 58 FR 33181, 3 CFR, 1993 Comp., p. 608; E.O. 12854, 58 FR 36587, 3 CFR, 1993 Comp., p. 179; E.O. 12918, 59 FR 28205, 3 CFR, 1994 Comp., p. 899; E.O. 12938, 59 FR 59099, 3 CFR, 1994 Comp., p. 950; E.O. 12947, 60 FR 5079, 3 CFR, 1995 Comp., p. 356; E.O. 12981, 60 FR 62981, 3 CFR, 1995 Comp., p. 419; E.O. 13020, 61 FR 54079, 3 CFR, 1996 Comp. p. 219; E.O. 13026, 61 FR 58767, 3 CFR, 1996 Comp., p. 228; E.O. 13099, 63 FR 45167, 3 CFR, 1998 Comp., p.208; E.O. 13222, 66 FR 44025, 3 CFR, 2001 Comp., p. 783; E.O. 13224, 66 FR 49079, 3 CFR, 2001 Comp., p. 786; E.O. 13338, 69 FR 26751, May 13, 2004; Notice of August 3, 2006, 71 FR 44551 (August 7, 2006); Notice of October 27, 2006, 71 FR 64109 (October 31, 2006).

2. Supplement No. 3 to part 730 is amended by revising the “Drugs, Chemicals and Precursors” section to read as follows:

Supplement No. 3 to Part 730—Other U.S. Government Departments and Agencies With Export Control Responsibilities

* * * * *

Drugs, Chemicals and Precursors

Chemicals: Drug Enforcement Administration, Office of Diversion Control, Import-Export Unit, Tel. (202) 307-4916, Fax: 202-307-4702, Internet: http://www.deadiversion.usdoj.gov/imp_exp/index.html.

21 CFR Parts 1311 Through 1313

Controlled Substances: Drug Enforcement Administration, Office of Diversion Control, Import-Export Unit, Tel. (202) 307-7182 or (202) 307-7181, Fax: (202) 307-7503, Internet: http://www.deadiversion.usdoj.gov/imp_exp/index.html.

21 CFR Parts 1311 Through 1313

Drugs and Biologics: Food and Drug Administration, Import/Export, Tel. (301) 594-3150, Fax: (301) 594-0165.

21 U.S.C. 301 et seq .

Investigational drugs permitted: Food and Drug Administration, International Affairs, Tel. (301) 443-4480, Fax: (301) 443-0235.

21 CFR 312.1106

* * * * *

PART 732—[AMENDED]

3. The authority citation for 15 CFR part 732 continues to read as follows:

Authority: 50 U.S.C. app. 2401 et seq.; 50 U.S.C. 1701 et seq.; E.O. 13026, 61 FR 58767, 3 CFR, 1996 Comp., p. 228; E.O. 13222, 66 FR 44025, 3 CFR, 2001 Comp., p. 783; Notice of August 3, 2006, 71 FR 44551 (August 7, 2006).

§ 732.3 [Amended]

4. Section 732.3 is amended by revising the phrase “Cuba, Iran, Iraq, North Korea, and Rwanda” in the first sentence of the introductory text of paragraph (i) to read “Cuba, Iran, Iraq, North Korea, or Rwanda”.

PART 742—[AMENDED]

5. The authority citation for 15 CFR part 742 continues to read as follows:

Authority: 50 U.S.C. app. 2401 et seq.; 50 U.S.C. 1701 et seq.; 18 U.S.C. 2510 et seq.; 22 U.S.C. 3201 et seq.; 42 U.S.C. 2139a; Sec. 901-911, Pub. L. 106-387; Sec. 221, Pub. L. 107-56; Sec 1503, Pub.L. 108-11,117 Stat. 559; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13222, 66 FR 44025, 3 CFR, 2001 Comp., p. 783; Presidential Determination 2003-23 of May 7, 2003, 68 FR 26459, May 16, 2003; Notice of August 3, 2006, 71 FR 44551 (August 7, 2006); Notice of October 27, 2006, 71 FR 64109 (October 31, 2006).

6. Supplement No. 2 to part 742, Anti-Terrorism Controls: Iran, Libya, North Korea, Syria and Sudan Contract Sanctity Dates and Related Policies, is amended:

a. By revising the heading as set forth below;

b. By revising the first sentence of paragraph (c)(27), to read as follows:

Supplement No. 2 to Part 742—Anti-Terrorism Controls: Iran, North Korea, Syria and Sudan Contract Sanctity Dates and Related Policies

(c) * * *

* * * * *

(27) Semiconductor manufacturing equipment. For Iran, Syria, Sudan, or North Korea, a license is required for all such equipment described in ECCNs 3B001 and 3B991.

* * * * *

PART 746—[AMENDED]

7. The authority citation for 15 CFR part 746 continues to read as follows:

Authority: 50 U.S.C. app. 2401 et seq.; 50 U.S.C. 1701 et seq.; 22 U.S.C. 287c; Sec 1503, Pub. L. 108-11,117 Stat. 559; 22 U.S.C. 6004; Sec. 901-911, Pub. L. 106-387; Sec. 221, Pub. L. 107-56; E.O. 12854, 58 FR 36587, 3 CFR 1993 Comp., p. 614; E.O. 12918, 59 FR 28205, 3 CFR, 1994 Comp., p. 899; E.O. 13222, 3 CFR, 2001 Comp., p. 783; Presidential Determination 2003-23 of May 7, 2003, 68 FR 26459, May 16, 2003; Notice of August 3, 2006, 71 FR 44551 (August 7, 2006); Presidential Determination 2007-7 of December 7, 2006, 72 FR 1899, January 16, 2007.

§ 746.4 [Amended]

8. In paragraph (a) of § 746.4, correct the phrase “as EAR99 (definitions in part 772 of the EAR.” to read “as EAR99 (definitions in part 772 of the EAR).”.

9. In Supplement No. 1 to part 746-Examples of Luxury Goods, amend the introductory text to read as follows:

Supplement No. 1 to Part 746—Examples of Luxury Goods

The following further amplifies the illustrative list of luxury goods set forth in § 746.4(b)(1):

* * * * *

PART 774—[AMENDED]

12. The authority citation for 15 CFR part 774 continues to read as follows:

Authority: 50 U.S.C. app. 2401 et seq.; 50 U.S.C. 1701 et seq.; 10 U.S.C. 7420; 10 U.S.C. 7420; 10 U.S.C. 7430(e); 18 U.S.C. 2510 et seq.; 22 U.S.C. 287c, 22 U.S.C. 3201 et seq., 22 U.S.C. 6004; 30 U.S.C. 185(s), 185(u); 42 U.S.C. 2139a; 42 U.S.C. 6212; 43 U.S.C. 1354; 46 U.S.C. app. 466c; 50 U.S.C. app. 5; Sec. 901-911, Pub. L. 106-387; Sec. 221, Pub. L. 107-56; E.O. 13026, 61 FR 58767, 3 CFR, 1996 Comp., p. 228; E.O. 13222, 66 FR 44025, 3 CFR, 2001 Comp., p. 783; Notice of August 3, 2006, 71 FR 44551 (August 7, 2006).

Supplement No. 1 to Part 774—The Commerce Control List—[Amended]

13. In Supplement No. 1 to part 774, Category 0—“Nuclear Materials, Facilities, and Equipment [and Miscellaneous Items]” is amended by revising the “License Requirements” section of ECCN 0A988 to read as follows:

0A988 Conventional military steel helmets as described by 0A018.d.1; and machetes.

License Requirements

Reason for Control: UN.

Control(s): UN applies to entire entry. A license is required for conventional military steel helmets as described by 0A018.d.1 and for machetes to Iraq, North Korea, and Rwanda. The Commerce Country Chart is not designed to determine licensing requirements for this entry. See part 746 of the EAR for additional information.

* * * * *

14. In Supplement No. 1 to part 774, Category 3—“Electronics” is amended by revising the “License Requirements Notes” section of 3A991 to read as follows:

3A991 Electronic devices and components not controlled by 3A001.

* * * * *

License Requirements Notes: See 744.17 of the EAR for additional license requirements for commodities classified as 3A991.a.1.

* * * * *

15. In Supplement No. 1 to part 774 (the Commerce Control List), Category 5—Telecommunications, ECCN 5A980 is amended by revising the Heading to read as follows:

5A980 Devices primarily useful for the surreptitious interception of wire, oral, or electronic communications; and parts and accessories therefor.

* * * * *

Dated: April 18, 2007.
Eileen Albanese,
Director, Office of Exporter Services.

[FR Doc. E7-7730 Filed 4-23-07; 8:45 am]

BILLING CODE 3510-33-P